DEPARTMENT OF THE INTERIOR

Bureau of Land Management

[BLM_NV_FRN_MO #4500170412]

Notice of Intent To Prepare an Environmental Impact Statement for the Proposed Greenlink North Project in White Pine, Eureka, Lander, Churchill, and Lyon Counties, Nevada

AGENCY: Bureau of Land Management, Interior.

ACTION: Notice of intent.

SUMMARY: In compliance with the National Environmental Policy Act of 1969, as amended (NEPA), and the Federal Land Policy and Management Act of 1976, as amended (FLPMA), the Bureau of Land Management (BLM) Nevada State Office, Reno, Nevada, intends to prepare an environmental impact statement (EIS) to consider the effects of a right-of-way (ROW) application for proposed transmission facilities from NV Energy for the Greenlink North Project. Publication of this notice initiates the scoping period to solicit public comments and identify issues to be analyzed in the Draft EIS.

DATES: This notice initiates the public scoping process for the EIS. The BLM requests the public submit comments concerning the scope of the analysis, potential alternatives, and identification of relevant information and studies by July 10, 2023. To afford the BLM the opportunity to consider issues raised by commenters in the Draft EIS, please ensure your comments are received prior to the close of the 45-day scoping period or 15 days after the last public scoping workshop, whichever is later.

The BLM will conduct a combination of virtual and in-person scoping workshops during the 45-day scoping period. The BLM will provide the public at least 15 days' notice prior to the workshops.

ADDRESSES: You may submit comments on issues related to the Greenlink North Project by any of the following methods:

• Website: https://eplanning.blm.gov/eplanning-ui/project/2017033/510.

• Email: blm_nv_greenlinknorth@blm.gov.

• Mail: BLM, Nevada State Office, Attn: Greenlink North Project, 1340 Financial Boulevard, Reno, NV 89502.

Documents pertinent to this Project may also be examined at the Reno Nevada State Office.

FOR FURTHER INFORMATION CONTACT: Brian Buttazoni, Planning & Environmental Specialist, telephone (775) 861-6491; address 1340 Financial Boulevard, Reno, NV 89502; email blm_nv_greenlinknorth@blm.gov. Contact us at this email address to have your name added to our mailing list. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: This document provides notice that the BLM Nevada State Office intends to prepare an EIS to consider the effects of a ROW application for the Greenlink North Project, announces the beginning of the scoping process, and seeks public input on issues to be analyzed in the Draft EIS. The proposed Project is in White Pine, Eureka, Lander, Churchill, and Lyon counties, Nevada. The proposed Project encompasses approximately 1,394 acres of public lands administered by the BLM.

Purpose and Need

In compliance with NEPA and FLPMA, the BLM Nevada State Office intends to prepare an EIS to analyze the environmental impacts associated with NV Energy's application seeking to obtain a ROW grant for the Greenlink North Project.

Under the Federal Energy Regulatory Commission's (FERC's) Open Access Transmission Tariff adopted in 18 CFR parts 35 and 385, Order No. 888 (75 FERC 61,080 (April 24, 1996)), NV Energy is required to plan and construct adequate transmission facilities to deliver the projected electric demand in Nevada. The State of Nevada is facing unprecedented changes in both system growth and resource requirements. By 2031, 1,000 megawatts (MW) of base load generation are planned for retirement, i.e., will no longer be generating electricity. In addition, NV Energy has received more than 1,450 MW of new electric service requests in northern Nevada that will require additional transmission facilities. Currently, the maximum amount of power that can be provided in northern Nevada on the existing transmission network is 1,275 MW, and all 1,275 MW are being used by current network customers. The power demand in northern Nevada is forecast to increase by more than 700 MW within 10 years. New transmission infrastructure is required to deliver the anticipated electric power demand.

The Greenlink North Project would alleviate some of the capacity issues on existing transmission lines and enhance electric grid reliability by allowing interconnections to occur throughout the State. The purpose of this Federal action is to respond to the ROW application for construction, operation, and decommissioning of proposed electrical transmission facilities on Federal land. Based on the goals and objectives of the proponent and the BLM's authority, the BLM will evaluate the ROW application submitted by NV Energy in compliance with FLPMA, BLM regulations, and other applicable Federal laws and policies. The need for this Federal action is to fulfill the BLM's responsibilities under FLPMA and its ROW regulations to manage the public lands for multiple uses, including for “systems for generation, transmission, and distribution of electric energy” (43 U.S.C. 1761(a)(4)).

Preliminary Proposed Action and Alternatives

The Proposed Action is to construct, operate and decommission a proposed system of new 525-kV, 345-kV, 230-kV, and 120-kV electric transmission facilities on approximately 1,394 acres of BLM administered lands. Additional action alternatives have not been identified to date but will be developed by taking into consideration comments and input received during the application evaluation determination process and scoping.

Under the No Action Alternative, the BLM would not issue a ROW grant for the construction, operation and decommissioning of a proposed system of new 525-kV, 345-kV, 230-kV, and 120-kV electric transmission facilities. The proposed Project would not be constructed, and existing land uses in the project area would continue. The BLM welcomes comments on the preliminary Proposed Action as well as suggestions for additional alternatives.

Summary of Expected Impacts

The analysis in the EIS will be focused on the proposed transmission project and associated facilities. The BLM evaluated the proposed Project application per the 43 CFR part 2800 application evaluation determination process. Through this process, the BLM gathered input from an interdisciplinary team of resource specialists and completed public outreach and agency and Indian Tribal Nations coordination specific to the proposed Project. From the input received during four pre-EIS virtual public workshops, the preliminary impacts from construction, operation, and eventual decommissioning of the Project and associated facilities could include:

• Vegetation and soils.

• Threatened, endangered, and BLM sensitive species.

• Air quality and climate.

• Cultural and historical resources.

• Greater-sage grouse.

• Access to public lands.

• Socioeconomics.

• Public health and safety.

Anticipated Permits and Authorizations

Along with a BLM ROW grant as required under 43 CFR 2801.9, NV Energy anticipates needing additional permits for the proposed project: a Nevada Public Utilities Commission Permit to Construct; Nevada Division of Water Resources water rights modification permits; and other permits, as necessary. A portion of the Project could occur on lands administered by the U.S. Forest Service, which would require a special use permit for the Project. The U.S. Forest Service would rely on the analysis contained in the EIS to support any special use permit. Further details on these permitting requirements may be found in the Preliminary Plan of Development which is available on the project website at: https://eplanning.blm.gov/eplanning-ui/admin/project/2017033/510.

Schedule for the Decision-Making Process

The BLM will provide additional opportunities for public participation consistent with the NEPA process, including a 60-day comment period on the Draft EIS. The Draft EIS is anticipated to be available for public review in winter 2024, and the Final EIS and subsequent Record of Decision are anticipated to be released in summer 2024.

Public Scoping Process

This Notice of Intent initiates the public scoping process, which guides the development of the Draft EIS.

The BLM will be holding a combination of virtual and in-person scoping workshops. The specific date(s) and location(s) of scoping workshops will be announced at least 15 days in advance through the local media and the e-Planning web page: https://eplanning.blm.gov/eplanning-ui/project/2017033/510.

The purpose of the public scoping process is to determine relevant issues that will influence the scope of the environmental analysis, including alternatives and mitigation measures, and to guide the process for developing the Draft EIS. Federal, State, and local agencies, along with Indian Tribal Nations and stakeholders that may be interested or affected by the BLM's decision on this project, are invited to participate in the scoping process and, if eligible, may request or be requested by the BLM to participate as a cooperating agency. The BLM encourages comments concerning the proposed Greenlink North Project, possible measures to minimize and/or avoid adverse environmental impacts, and any other information relevant to the Proposed Action.

The BLM also requests assistance with identifying potential reasonable alternatives to the Proposed Action. As alternatives should resolve an issue with the Proposed Action, please indicate the purpose of the suggested alternative. In addition, the BLM requests the identification of potential issues that should be analyzed. Issues should be a result of the Proposed Action or other reasonable alternatives; therefore, please identify the activity along with the potential issues.

Lead and Cooperating Agencies

The BLM Nevada State Office is the lead Federal agency for this EIS. The BLM has initially identified the following agencies and organizations as potential Cooperating Agencies to participate in the environmental analysis of the Project: Department of the Air Force, Department of Defense, U.S. Forest Service, U.S. Environmental Protection Agency Region 9, U.S. Fish and Wildlife Service, Nevada Department of Transportation, Duckwater Shoshone Tribe, Ely Shoshone Tribe, Fallon Paiute-Shoshone Tribe, Pyramid Lake Paiute Tribe, Walker River Paiute Tribe, Yomba Shoshone Tribe, Nevada Department of Wildlife, Nevada Division of Environmental Protection, Nevada Division of Minerals, Churchill County, White Pine County, Lyon County, Eureka County, and Lander County.

The following Tribes were invited to participate as a Cooperating Agency in BLM's initial notification letter: Confederated Tribes of the Goshute Reservation, Duckwater Shoshone Tribe, Ely Shoshone Tribe, Fallon Paiute-Shoshone Tribe, Fort McDermitt Paiute and Shoshone Tribe, Lovelock Paiute Tribe, Moapa Band of Paiutes, Pahrump Paiute Tribe, Pyramid Lake Paiute Tribe, Reno-Sparks Indian Colony, Shoshone-Bannock Tribes, Shoshone-Paiute Tribes of Duck Valley, Summit Lake Paiute Tribe, Susanville Indian Rancheria, Te-Moak Tribe of Western Shoshone, Te-Moak Tribe-Battle Mountain Band, Te-Moak Tribe-Elko Band, Te-Moak Tribe-South Fork Band, Te-Moak Tribe-Wells Band, Timbisha Shoshone Tribe, Walker River Paiute Tribe, Washoe Tribe of Nevada and California, Winnemucca Indian Colony, Winnemucca Indian Colony, Yerington Paiute Tribe, and Yomba Shoshone Tribe. These and other federally recognized T`ribes may request Cooperating Agency status during preparation and review of the Draft EIS.

Responsible Official

The Nevada State Office Director is the deciding official for the proposed Greenlink North Project.

Nature of Decision To Be Made

The BLM will decide whether to grant, grant with conditions, or deny the right-of-way application. Pursuant to 43 CFR 2805.10, if the BLM issues a right-of-way grant(s), the BLM decision maker may include terms, conditions, and stipulations determined to be in the public interest.

Interdisciplinary Team

The BLM will use an interdisciplinary approach to develop the EIS to consider the variety of resource issues and concerns identified. Specialists with expertise in the following disciplines will be involved in this process: air quality, archaeology, botany, climate change (greenhouse gases), environmental justice, fire and fuels, geology/mineral resources, hydrology, invasive/non-native species, lands and realty, National Conservation Lands, National Trails System, public health and safety, recreation/transportation, socioeconomics, soils, visual resources, and wildlife.

Additional Information

The BLM will identify, analyze, and consider mitigation to address the reasonably foreseeable impacts to resources from all analyzed reasonable alternatives and, in accordance with 40 CFR 1502.14(e), include appropriate mitigation measures not already included in the proposed alternatives. Mitigation may include avoidance, minimization, rectification, reduction or elimination over time, and compensation; and may be considered at multiple scales, including the landscape scale.

The BLM will utilize the NEPA process to help support compliance with applicable procedural requirements under Section 106 of the National Historic Preservation Act (54 U.S.C. 306108) as provided in 36 CFR 800.2(d)(3), including public involvement requirements of section 106. The information about historic and cultural resources and threatened and endangered species within the area potentially affected by the proposed Project will assist the BLM in identifying and evaluating impacts to such resources.

The BLM will consult with Indian Tribal Nations on a government-to-government basis in accordance with Executive Order 13175, BLM Manual Section 1780, and other policies. Tribal concerns, including impacts on Indian trust assets and potential impacts to cultural resources, will be given due consideration. The BLM intends to hold government-to-government consultation meetings. The BLM will send invitations to potentially impacted Indian Tribal Nations prior to the meetings. The BLM will provide additional opportunities for government-to-government consultation during the NEPA process.

Before including your address, phone number, email address, or other personal identifying information in your comment, you should be aware that your entire comment—including your personal identifying information—may be made publicly available at any time. While you can ask us in your comment to withhold your personal identifying information from public review, we cannot guarantee that we will be able to do so.

(Authority: 40 CFR 1501.7 and 2800.)

Jon K. Raby,
Nevada State Director.

[FR Doc. 2023-11070 Filed 5-25-23; 8:45 am]

BILLING CODE 4331-21-P